FEDERAL ACCOUNTING STANDARDS ADVISORY BOARD

Notice of Meeting Schedule for 2014

AGENCY: Federal Accounting Standards Advisory Board.

ACTION: Notice.

Notice of less than 15 days is being provided for the June 25-26, 2014 meeting because of an exceptional administrative oversight. Advance notice of the meeting was provided via other means including listserv and Web site postings.

Board Action: Pursuant to 31 U.S.C. 3511(d), the Federal Advisory Committee Act (Pub. L. 92-463), as amended, and the FASAB Rules of Procedure, as amended in October, 2010, notice is hereby given that the Federal Accounting Standards Advisory Board (FASAB) will meet on the following dates in room 7C13 of the U.S. Government Accountability Office (GAO) Building (441 G St. NW.,) unless otherwise noted:

—Wednesday and Thursday, June 25 and 26, 2014

—Wednesday and Thursday, August 27 and 28, 2014

—Wednesday and Thursday, October 22 and 23, 2014

—Wednesday and Thursday, December 17 and 18, 2014

The purpose of the meetings is to discuss issues related to:

—Leases

—Public-Private Partnerships

—Reporting Entity

—Reporting Model

—Risk Assumed, and

—Any other topics as needed.

Any interested person may attend the meetings as an observer. Board discussion and reviews are open to the public. GAO Building security requires advance notice of your attendance. Please notify FASAB of your planned attendance by calling 202-512-7350 at least one day prior to the respective meeting.

FOR FURTHER INFORMATION CONTACT: Wendy Payne, Executive Director, at (202) 512-7350.

Authority: Federal Advisory Committee Act, Public Law 92-463.

Dated: June 20, 2014.
Charles Jackson,
Federal Register Liaison Officer.

[FR Doc. 2014-14852 Filed 6-23-14; 8:45 am]

BILLING CODE 1610-02-P